DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by Section 2112(b)(2) of the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 08N146B, Rockville, MD 20857; (301) 443-6593, or visit our Web site at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on September 1, 2016, through September 30, 2016. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading For Further Information Contact), with a copy to HRSA addressed to Director, Division of Injury Compensation Programs, Healthcare Systems Bureau, 5600 Fishers Lane, 08N146B, Rockville, MD 20857. The Court's caption (Petitioner's Name v. Secretary of Health and Human Services) and the docket number assigned to the petition should be used as the caption for the written submission. Chapter 35 of title 44, United States Code, related to paperwork reduction, does not apply to information required for purposes of carrying out the Program.

Dated: October 20, 2016.
James Macrae,
Acting Administrator.

List of Petitions Filed

1. Georgina Russell, Oskaloosa, Iowa, Court of Federal Claims No: 16-1091V.

2. Darla Shaffer, DuBois, Pennsylvania, Court of Federal Claims No: 16-1092V.

3. Alvis Sutton, Ft. Wright, Kentucky, Court of Federal Claims No: 16-1093V.

4. Thomas Rose, Boston, Massachusetts, Court of Federal Claims No: 16-1095V.

5. Sue Frampton, Fillmore, Utah, Court of Federal Claims No: 16-1096V.

6. Tamara Cain, Cleveland, Ohio, Court of Federal Claims No: 16-1097V.

7. Meryl Braun, New York, New York, Court of Federal Claims No: 16-1098V.

8. Shanda Anderson on behalf of A. A. Ashdown, Arkansas, Court of Federal Claims No: 16-1099V.

9. Kristi Weyland-Taylor, Tigard, Oregon, Court of Federal Claims No: 16-1100V.

10. Linda S. McGuire, Monroeville, Pennsylvania, Court of Federal Claims No: 16-1101V.

11. John Squadroni, Vallejo, California, Court of Federal Claims No: 16-1102V.

12. Jacqueline Schmitt, St. Louis, Missouri, Court of Federal Claims No: 16-1103V.

13. Raymond Decker, Melbourne, Florida, Court of Federal Claims No: 16-1104V.

14. Judy Linette Gentry, Marietta, Georgia, Court of Federal Claims No: 16-1108V.

15. Katherine Kesterson, Boston, Massachusetts, Court of Federal Claims No: 16-1109V.

16. Laura Munilla, Chicago, Illinois, Court of Federal Claims No: 16-1111V.

17. Kirk Franceschini, Austin, Texas, Court of Federal Claims No: 16-1112V.

18. Beverly Towne, Freeport, Maine, Court of Federal Claims No: 16-1116V.

19. Barry Reese, Milwaukie, Oregon, Court of Federal Claims No: 16-1117V.

20. Vera Spearman, Cleveland, Ohio, Court of Federal Claims No: 16-1119V.

21. Shari Herb, New York, New York, Court of Federal Claims No: 16-1120V.

22. Karen L. Christner, Columbus, Ohio, Court of Federal Claims No: 16-1122V.

23. Dale Drechsler, Shelton, Connecticut, Court of Federal Claims No: 16-1123V.

24. Deborah Carrillo, Washington, District of Columbia, Court of Federal Claims No: 16-1124V.

25. Joseph Bonica, Washington, District of Columbia, Court of Federal Claims No: 16-1127V.

26. Cary A. Johnson, Kansas City, Missouri, Court of Federal Claims No: 16-1129V.

27. David Holmes, Milford, Massachusetts, Court of Federal Claims No: 16-1130V.

28. Cheron Golding, New York, New York, Court of Federal Claims No: 16-1132V.

29. Angel Tajah Drakeford, Timmonsville, South Carolina, Court of Federal Claims No: 16-1134V.

30. Mark David Lundin, Baltimore, Maryland, Court of Federal Claims No: 16-1135V.

31. Christina Lynn Harris, Ooltewah, Tennessee, Court of Federal Claims No: 16-1137V.

32. Jamie Mohr, Marietta, Georgia, Court of Federal Claims No: 16-1139V.

33. Tramella Hinton on behalf of S. A. H., Tarboro, North Carolina, Court of Federal Claims No: 16-1140V.

34. Christina Jelic, Cleveland, Ohio, Court of Federal Claims No: 16-1141V.

35. Ismael Blanco, Novi, Michigan, Court of Federal Claims No: 16-1142V.

36. Mariela Rothermel, Brookeville, Maryland, Court of Federal Claims No: 16-1143V.

37. Zachariah Otto, Santa Ana, California, Court of Federal Claims No: 16-1144V.

38. Naomi Engel, Houston, Texas, Court of Federal Claims No: 16-1145V.

39. Bethany Ritting, Lansdale, Pennsylvania, Court of Federal Claims No: 16-1146V.

40. Jane Ahler, Mesa, Arizona, Court of Federal Claims No: 16-1147V.

41. Teri Ennis and Joshua Ennis on behalf of B. E., Henderson, Kentucky, Court of Federal Claims No: 16-1148V.

42. Jean Kusiak, Seekonk, Massachusetts, Court of Federal Claims No: 16-1149V.

43. Susan Itsell, Phoenix, Arizona, Court of Federal Claims No: 16-1150V.

44. Stephanie Roberts, Lake Success, New York, Court of Federal Claims No: 16-1151V.

45. Devon Engstrom and Eric Engstrom on behalf of C. E., Washington, District of Columbia, Court of Federal Claims No: 16-1152V.

46. Virginia Lovitto, Rehoboth, Massachusetts, Court of Federal Claims No: 16-1153V.

47. Nadine Whitsett Makstell and LLoyd Makstell on behalf of Edward B. Makstell, Deceased, Cincinnati, Ohio, Court of Federal Claims No: 16-1154V.

48. Lorin M. Murphy, Columbiana, Ohio, Court of Federal Claims No: 16-1155V.

49. Robin Flick, Black River Falls, Wisconsin, Court of Federal Claims No: 16-1156V.

50. Charlene Piatt, Weatherford, Texas, Court of Federal Claims No: 16-1161V.

51. Brenda Pritchard, Fort Worth, Texas, Court of Federal Claims No: 16-1162V.

52. Lloyd Fred Bopp, Las Vegas, Nevada, Court of Federal Claims No: 16-1163V.

53. Martin Cowles, Jacksonville, Florida, Court of Federal Claims No: 16-1164V.

54. Robert Stevenson, Springfield, Massachusetts, Court of Federal Claims No: 16-1165V.

55. Susan Peterson, Onalaska, Wisconsin, Court of Federal Claims No: 16-1166V.

56. Kimberly Albers-Fehr, St. Louis, Missouri, Court of Federal Claims No: 16-1167V.

57. Chelsie Mann on behalf of E. D., New Castle, Indiana, Court of Federal Claims No: 16-1168V.

58. Gina Dodd, Gainesville, Georgia, Court of Federal Claims No: 16-1169V.

59. Nancy Webb, Fayetteville, North Carolina, Court of Federal Claims No: 16-1170V.

60. Richard Rhoades, Kansas City, Kansas, Court of Federal Claims No: 16-1171V.

61. Barbara Sheets, Washington, District of Columbia, Court of Federal Claims No: 16-1173V.

62. Merry Whelan, Cherry Hill, New Jersey, Court of Federal Claims No: 16-1174V.

63. Andrew Hough, Philadelphia, Pennsylvania, Court of Federal Claims No: 16-1175V.

64. Marie Cronin, Newtown, Massachusetts, Court of Federal Claims No: 16-1176V.

65. Cheryl Stevenson, Oceanside, California, Court of Federal Claims No: 16-1179V.

66. Cynthia Ramirez on behalf of Camila Ramirez, Fort Worth, Texas, Court of Federal Claims No: 16-1180V.

67. Phillip Bernotas, Hazelton, Pennsylvania, Court of Federal Claims No: 16-1182V.

68. Jaclyn Arnold, Peoria, Illinois, Court of Federal Claims No: 16-1184V.

69. Samantha Massey and Wardell Massey on behalf of J. M., Exton, Pennsylvania, Court of Federal Claims No: 16-1185V.

70. A. Hart, Oklahoma City, Oklahoma, Court of Federal Claims No: 16-1186V.

71. James Smith, Hiawatha, Iowa, Court of Federal Claims No: 16-1188V.

72. Ipuna Black and Kline Black on behalf of J. B., Beverly Hills, California, Court of Federal Claims No: 16-1189V.

73. James Bacher, New York, New York, Court of Federal Claims No: 16-1190V.

74. Nathaniel J. Boone, Greensboro, North Carolina, Court of Federal Claims No: 16-1191V.

75. Megan C. McFadden, Okinawa Japan, International Address, Court of Federal Claims No: 16-1192V.

76. Teresa Swango, Burlington, Massachusetts, Court of Federal Claims No: 16-1193V.

77. Harold Jackson on behalf of Stephanie Jackson, Slidell, Louisiana, Court of Federal Claims No: 16-1194V.

78. Christen Terrore, Rochester, New York, Court of Federal Claims No: 16-1195V.

79. Jane Newman, Boston, Massachusetts, Court of Federal Claims No: 16-1196V.

80. Leon Klempner, Fort Belvoir, Virginia, Court of Federal Claims No: 16-1197V.

81. Makenna Weaver, Cincinnati, Ohio, Court of Federal Claims No: 16-1198V.

82. Amy Painter, Union Grove, Wisconsin, Court of Federal Claims No: 16-1200V.

83. James Caperton, Kernersville, North Carolina, Court of Federal Claims No: 16-1202V.

84. Raymond T. Howell, Wellesley Hills, Massachusetts, Court of Federal Claims No: 16-1203V.

85. Frederick Stahl, Tarpon Springs, Florida, Court of Federal Claims No: 16-1204V.

86. Kyle Burt, Greensboro, North Carolina, Court of Federal Claims No: 16-1208V.

87. Yvette A. Suomala, Greensboro, North Carolina, Court of Federal Claims No: 16-1210V.

88. Jiangyue Wang, Lawrenceville, New Jersey, Court of Federal Claims No: 16-1211V.

89. Diane Gibson, Mesa, Arizona, Court of Federal Claims No: 16-1212V.

90. Rebecca Ilnicky and Odin Ilnicky on behalf of S. I., Riverside, California, Court of Federal Claims No: 16-1213V.

91. Tracy Sarmiento, Honolulu, Hawaii, Court of Federal Claims No: 16-1214V.

92. Randy O. Harper, Washington, District of Columbia, Court of Federal Claims No: 16-1215V.

93. Cheryl Lagamma, Glen Rock, New Jersey, Court of Federal Claims No: 16-1216V.

94. Nancy Sweeney, Sacramento, California, Court of Federal Claims No: 16-1217V.

95. Lori Clark, Newark, Delaware, Court of Federal Claims No: 16-1218V.

96. Carla Pingel, St. Louis, Missouri, Court of Federal Claims No: 16-1219V.

97. Kerry Lanigan, Philadelphia, Pennsylvania, Court of Federal Claims No: 16-1220V.

98. Marina Angdahl-Wangler, Salem, Oregon, Court of Federal Claims No: 16-1222V.

99. Shauna Lou Roesler, Boston, Massachusetts, Court of Federal Claims No: 16-1223V.

100. James I. Moran, Baton Rouge, Louisiana, Court of Federal Claims No: 16-1224V.

101. Charles Stauber, Traverse City, Michigan, Court of Federal Claims No: 16-1225V.

102. Samantha Krieg, Marion, Indiana, Court of Federal Claims No: 16-1226V.

103. Jennifer L. Ratzlaff, Greensboro, North Carolina, Court of Federal Claims No: 16-1228V.

104. Yahvel Murphy on behalf of Elizabeth Davis, Salt Lake City, Utah, Court of Federal Claims No: 16-1229V.

105. Kelly Williams, St. Louis, Missouri, Court of Federal Claims No: 16-1231V.

106. Jeffrey D. Musumeci, Middleton, New York, Court of Federal Claims No: 16-1232V.

107. Betsy Le, Dallas, Texas, Court of Federal Claims No: 16-1234V.

108. Shelia Yagodzinski, Hadley, Massachusetts, Court of Federal Claims No: 16-1235V.

109. Crystal Cloud, Marianna, Florida, Court of Federal Claims No: 16-1236V.

110. Tracy Kunca, Greensboro, North Carolina, Court of Federal Claims No: 16-1237V.

111. Shirley Dew, New York, New York, Court of Federal Claims No: 16-1238V.

112. Suzette McLeod, Reston, Virginia, Court of Federal Claims No: 16-1239V.

113. William Moore, Dallas, Texas, Court of Federal Claims No: 16-1240V.

114. Tara Heine, Chicago, Illinois, Court of Federal Claims No: 16-1241V.

115. Susan Dean, Charleston, West Virginia, Court of Federal Claims No: 16-1245V.

116. Susan Wigley, Aurora, Colorado, Court of Federal Claims No: 16-1247V.

117. Reginald Grose, Philadelphia, Pennsylvania, Court of Federal Claims No: 16-1248V.

118. Josephine Plotkin, Sarasota, Florida, Court of Federal Claims No: 16-1249V.

[FR Doc. 2016-26012 Filed 10-26-16; 8:45 am]

BILLING CODE 4165-15-P